DEPARTMENT OF TRANSPORTATION

Federal Aviation Administration

14 CFR Part 39

[Docket No. 2003-NE-48-AD]

RIN 2120-AA64

Airworthiness Directives; Hamilton Sundstrand Corporation (Formerly Hamilton Standard Division) Model 568F Propellers

AGENCY: Federal Aviation Administration (FAA), DOT.

ACTION: Notice of proposed rulemaking (NPRM).

SUMMARY: The FAA proposes to adopt a new airworthiness directive (AD) for certain serial numbered (SN) propeller blades installed in Hamilton Sundstrand Corporation (formerly Hamilton Standard Division) 568F propellers. This proposed AD would require replacement of propeller blades, part numbers (P/N's) R815505-3 and R815505-4 that have a serial number (SN) of FR1699 to FR20021010, with serviceable blades. This proposed AD is prompted by reports of these composite propeller blades found at inspection, with random areas of missing adhesive under the compression wrap, which exposed the steel tulip part of the blade. We are proposing this AD to prevent propeller blade failure due to corrosion-induced fatigue, which could result in blade separation and possible loss of airplane control.

DATES: We must receive any comments on this proposed AD by February 2, 2004.

ADDRESSES: Use one of the following addresses to submit comments on this proposed AD:

• By mail: Federal Aviation Administration (FAA), New England Region, Office of the Regional Counsel, Attention: Rules Docket No. 2003-NE-48-AD, 12 New England Executive Park, Burlington, MA 01803-5299.

• By fax: (781) 238-7055.

• By e-mail: 9-ane-adcomment@faa.gov.

You can get the service information identified in this proposed AD from Hamilton Sundstrand, A United Technologies Company, Publications Manager, Mail Stop 2AM-EE50, One Hamilton Road, Windsor Locks, CT 06096.

You may examine the AD docket, by appointment, at the FAA, New England Region, Office of the Regional Counsel, 12 New England Executive Park, Burlington, MA.

FOR FURTHER INFORMATION CONTACT: Frank Walsh, Aerospace Engineer, Boston Aircraft Certification Office, FAA, Engine and Propeller Directorate, 12 New England Executive Park, Burlington, MA 01803-5299; telephone (781) 238-7158; fax (781) 238-7170.

SUPPLEMENTARY INFORMATION:

Comments Invited

We invite you to submit any written relevant data, views, or arguments regarding this proposal. Send your comments to an address listed under ADDRESSES. Include “AD Docket No. 2003-NE-48-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us verbally, and that contact relates to a substantive part of this proposed AD, we will summarize the contact and place the summary in the docket. We will consider all comments received by the closing date and may amend the proposed AD in light of those comments.

We are reviewing the writing style we currently use in regulatory documents. We are interested in your comments on whether the style of this document is clear, and your suggestions to improve the clarity of our communications that affect you. You can get more information about plain language at http://www.faa.gov/language and http://www.plainlanguage.gov.

Examining the AD Docket

You may examine the AD Docket (including any comments and service information), by appointment, between 8 a.m. and 4:30 p.m., Monday through Friday, except Federal holidays. See ADDRESSES for the location.

Discussion

The manufacturer has recently notified us that while investigating corrosion indications on some blade tulip counterweight areas of 568F composite propeller blades, random areas of missing adhesive under the compression wrap were discovered, exposing the steel tulip part of the blade. This missing adhesive is determined to be the result of a manufacturing operation designed to remove resin flashing from this area of the blade interface, during original manufacture. The manufacturer has implemented a corrective action in the manufacturing process for new blades, beginning with blade SN 20021011, and higher. Upon further investigation, the manufacturer has identified two serial number groups of blades that are suspect for missing adhesive. They are 568F propeller blades, P/Ns R815505-3 and R815505-4, SNs FR1699 through FR2625 inclusive (877 blades), and SNs FR20010610 through FR20021010 inclusive (713 blades).

FAA's Determination and Requirements of the Proposed AD

We have evaluated all pertinent information and identified an unsafe condition that is likely to exist or develop on other products of this same type design. Therefore, we are proposing this AD, which would require replacement of propeller blades, P/Ns R815505-3 and R815505-4, that have a SN of FR1699 to FR20021010, with serviceable blades. A calendar-based schedule has been established for the removal of blades based on a safety evaluation of the blade population. The schedule takes into consideration the age of the blade, availability of spare blades and the repair capabilities necessary to restore removed blades to a serviceable condition. Since corrosion is an age-related process, the oldest blades are to be replaced first. In addition, the specialized tooling necessary to remove and replace the composite material on the blade during repair is only available at one repair facility. The calendar-based schedule provides airplane owners and operators with compliance dates to accommodate scheduling for blade removal within the safety evaluation.

Changes to 14 CFR Part 39—Effect on the Proposed AD

On July 10, 2002, we issued a new version of 14 CFR part 39 (67 FR 47998, July 22, 2002), which governs the FAA's AD system. This regulation now includes material that relates to altered products, special flight permits, and alternative methods of compliance. This material previously was included in each individual AD. Since this material is included in 14 CFR part 39, we will not include it in future AD actions.

Costs of Compliance

We estimate that 24 Hamilton Sundstrand Corporation 568F propellers with suspect blades installed on airplanes of U.S. registry, would be affected by this proposed AD. We also estimate that it would take approximately 8 work hours per airplane to remove and replace suspect blades, and that the average labor rate is $65 per work hour. Based on these figures, we estimate the total labor cost of the proposed AD to U.S. operators to be $6,240.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 2003-NE-48-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Hamilton Sundstrand Corporation (formerly Hamilton Standard Division): Docket No. 2003-NE-48-AD.

Comments Due Date

(a) The Federal Aviation Administration (FAA) must receive comments on this airworthiness directive (AD) action by February 2, 2004.

Affected ADs

(b) None.

Applicability

(c) This AD applies to Hamilton Sundstrand Corporation (formerly Hamilton Standard Division) 568F propellers with propeller blades, part numbers (P/Ns) R815505-3 and R815505-4, serial numbers (SNs) FR1699 through FR2625 inclusive (877 blades), and SNs FR20010610 through FR20021010 inclusive (713 blades), installed. These composite propeller blades are installed on, but not limited to, Aerospatiale ATR42-400, ATR42-500, ATR72-212, and ATR72-500 airplanes.

Unsafe Condition

(d) This AD is prompted by reports of propeller blades found at inspection, with random areas of missing adhesive under the compression wrap, which exposed the steel tulip part of the blade. We are issuing this AD to prevent propeller blade failure due to corrosion-induced fatigue, which could result in blade separation and possible loss of airplane control.

Compliance

(e) You are responsible for having the actions required by this AD performed within the compliance times specified unless the actions have already been done.

Removal From Service of Affected Propeller Blades

(f) Remove propeller blades, P/Ns R815505-3 and R815505-4 from service as follows:

(1) Blades listed by SN in the following Table 1 of this AD must be removed no later than the date listed in Table 1 of this AD. See Table 2 of this AD for blade SNs that are excluded from the compliance times specified in Table 1 of this AD.

(2) Remove the blades that are listed by SN in Table 2 of this AD no later than December 31, 2007.

(3) In some instances an “RT” reference immediately follows the numeric portion of the serial number on the blade. For purposes of this AD, the “RT” reference has been omitted when specifying affected serial numbers.

Table 1.—Propeller Blade Removal Schedule
For propeller blades SNs: | Remove propeller blades from service for rework, no later than:
FR1699 through FR1765 | December 31, 2003.
FR1766 through FR1776 | March 31, 2004.
FR1777 through FR1855 | June 30, 2004.
FR1856 through FR1956 | September 30, 2004.
FR1957 through FR2132 | December 31, 2004.
FR2133 through FR2230 | March 31, 2005.
FR2231 through FR2315 | June 30, 2005.
FR2316 through FR2390 | September 30, 2005.
FR2391 through FR2433 | December 31, 2005.
FR2434 through FR2553 | March 31, 2006.
FR2554 through FR2625 | June 30, 2006.
FR20010610 through FR20010729 | June 30, 2006.
FR20010730 through FR20011018 | September 30, 2006.
FR20011019 through FR20011218 | December 31, 2006.
FR20011219 through FR20020511 | March 31, 2007.
FR20020512 through FR20020757 | June 30, 2007.
FR20020758 through FR20020842 | September 30, 2007.
FR20020843 through FR20021010 | December 31, 2007.

Table 2.—Blade SNs Excluded From Table 1
FR1720 | FR1887 | FR1962 | FR2163
FR1740 | FR1888 | FR1963 | FR2164
FR1742 | FR1889 | FR2013 | FR2165
FR1752 | FR1892 | FR2022 | FR2166
FR1777 | FR1893 | FR2032 | FR2167
FR1791 | FR1927 | FR2037 | FR2168
FR1796 | FR1928 | FR2038 | FR2173
FR1841 | FR1929 | FR2039 | FR2177
FR1843 | FR1930 | FR2047 | FR2179
FR1858 | FR1931 | FR2058 | FR2180
FR1860 | FR1932 | FR2059 | FR2183
FR1865 | FR1933 | FR2060 | FR2204
FR1869 | FR1934 | FR2063 | FR2205
FR1871 | FR1935 | FR2064 | FR2206
FR1872 | FR1936 | FR2067 | FR2207
FR1873 | FR1937 | FR2068 | FR2208
FR1874 | FR1938 | FR2099 | FR2233
FR1875 | FR1942 | FR2108 | FR2234
FR1877 | FR1943 | FR2134 | FR2467
FR1878 | FR1957 | FR2135 | FR20010626
FR1879 | FR1960 | FR2136 | FR20010936
FR1880 | FR1961 | FR2137 | FR20011218

Installation of Propeller Blades That Have a SN Listed in Table 1 or Table 2 of This AD

(g) After the effective date of this AD, do not install any blade that has P/N R815505-3 or R815505-4 and SN listed in Table 1 or Table 2 of this AD, and that has exceeded the date for replacement.

Alternative Methods of Compliance

(h) The Manager, Boston Aircraft Certification Office, has the authority to approve alternative methods of compliance for this AD if requested using the procedures found in 14 CFR 39.19.

Related Information

(i) Hamilton Sundstrand Service Bulletin No. 568F-61-A45, Revision 1, dated October 7, 2003, provides information to rework and remark the affected blades for return to service.

Issued in Burlington, Massachusetts, on November 24, 2003.
Jay J. Pardee,
Manager, Engine and Propeller Directorate, Aircraft Certification Service.

[FR Doc. 03-29904 Filed 12-1-03; 8:45 am]

BILLING CODE 4910-13-P